Executive Order 13214 of May 28, 2001

President's Task Force To Improve Health Care Delivery for Our Nation's Veterans

By the authority vested in me as President by the Constitution and the laws of the United States of America, including the Federal Advisory Committee Act, as amended (5 U.S.C. App.), and in order to provide prompt and efficient access to consistently high quality health care for veterans who have served the Nation, it is hereby ordered as follows:

Section 1. Establishment. There is established the President's Task Force to Improve Health Care Delivery for Our Nation's Veterans (Task Force).

Sec. 2. Membership. The Task Force shall be comprised of 15 members appointed by the President. Two of the 15 members shall serve as co-chairs of the Task Force. The Task Force membership shall include health care experts, officials familiar with Department of Veterans Affairs and Department of Defense health care systems, and representatives from veteran and military service organizations.

Sec. 3. Mission. The mission of the Task Force shall be to:

(a)

identify ways to improve benefits and services for Department of Veterans Affairs beneficiaries and Department of Defense military retirees who are also eligible for benefits from the Department of Veterans Affairs through better coordination of the activities of the two departments;

(b)

review barriers and challenges that impede Department of Veterans Affairs and Department of Defense coordination, including budgeting processes, timely billing, cost accounting, information technology, and reimbursement. Identify opportunities to improve such business practices to ensure high quality and cost effective health care; and

(c)

identify opportunities for improved resource utilization through partnership between the Department of Veterans Affairs and the Department of Defense to maximize the use of resources and infrastructure, including: buildings, information technology and data sharing systems, procurement of supplies, equipment and services, and delivery of care.

Sec. 4. Administration.

(a)

The Department of Veterans Affairs shall, to the extent permitted by law, provide administrative support and funding for the Task Force.

(b)

Members of the Task Force shall serve without any compensation for their work on the Task Force. Members appointed from among private citizens of the United States, however, while engaged in the work of the Task Force, may be allowed travel expenses, including per diem in lieu of subsistence, as authorized by law for persons serving intermittently in Government service (5 U.S.C. 5701-5707), to the extent funds are available.

(c)

The co-chairs of the Task Force shall appoint an Executive Director to coordinate administration of the Task Force. To the extent permitted by law, office space, analytical support, and additional staff support for the Commission shall be provided by executive branch departments and agencies as directed by the President.

(d)

The heads of the executive branch departments and agencies shall, to the extent permitted by law, provide the Task Force with information as requested by the co-chairs.

(e)

At the call of the co-chairs, the Task Force shall meet as necessary to accomplish its mission.

(f)

The functions of the President under the Federal Advisory Committee Act, as amended, except for those in section 6 of that Act, that are applicable to the Task Force, shall be performed by the Department of Veterans Affairs, in accordance with the guidelines that have been issued by the Administrator of General Services.

Sec. 5. Reports. The Task Force shall report its findings and recommendations to the President, through the Secretary of Veterans Affairs and Secretary of Defense. The Task Force shall issue an interim report in 9 months from the date of the first meeting of the Task Force. The Task Force shall issue a final report prior to the end of the second year of operation.

Sec. 6. Termination. The Task Force shall terminate 30 days after submitting its final report, but no later than 2 years from the date of this order.

B

THE WHITE HOUSE,

May 28, 2001.

[FR Doc. 01-13869

Filed 5-30-01; 8:45 am]

Billing code 3195-01-P